DEPARTMENT OF COMMERCE

National Oceanic and Atmospheric Administration

RIN 0648-XA316

Mid-Atlantic Fishery Management Council (MAFMC); Meeting

AGENCY: National Marine Fisheries Service (NMFS), National Oceanic and Atmospheric Administration (NOAA), Commerce.

ACTION: Notice of public meeting.

SUMMARY: The Social and Economic Sub-Committee of the Mid-Atlantic Fishery Management Council's (Council) Scientific and Statistical Committee (SSC) will meet with the Council's Squid, Mackerel, and Butterfish (SMB) Advisory Panel (AP).

DATES: Thursday, April 14 through Friday, April 15, 2011.

ADDRESSES: The meeting will be held at the Historic Inns of Annapolis, MD 21401 telephone: (410) 263-2641.

Council Address: Mid-Atlantic Fishery Management Council, 800 N. State Street, Suite 201, Dover, DE 19901; telephone: (302) 674-2331.

FOR FURTHER INFORMATION CONTACT: Christopher M. Moore, PhD, Executive Director, Mid-Atlantic Fishery Management Council, 800 N. State Street, Suite 201, Dover, DE 19901; telephone: (302) 526-5255.

SUPPLEMENTARY INFORMATION: The purpose of this meeting is to review fishery performance and create an AP Fishery Performance Report for Squid, Mackerel, and Butterfish. On Friday, April 15—The Joint Meeting of the Squid, Mackerel, and Butterfish AP and SSC Socio-Economic Sub-Committee meeting will be continued.

Special Accommodations

The meeting is physically accessible to people with disabilities. Requests for sign language interpretation or other auxiliary aids should be directed to M. Jan Saunders at the Mid-Atlantic Council Office (302) 526-5251 at least five days prior to the meeting date.

Dated: March 21, 2011.
Tracey L. Thompson,
Acting Director, Office of Sustainable Fisheries, National Marine Fisheries Service.

[FR Doc. 2011-6955 Filed 3-23-11; 8:45 am]

BILLING CODE 3510-22-P